DEPARTMENT OF HOMELAND SECURITY

Coast Guard

33 CFR Part 117

[Docket No. USCG-2011-0669]

Drawbridge Operation Regulation; New Jersey Intracoastal Waterway (NJICW); Atlantic City, NJ

AGENCY: Coast Guard, DHS.

ACTION: Notice of temporary deviation from regulations.

SUMMARY: The Commander, Fifth Coast Guard District, has issued a temporary deviation from the regulation governing the operation of the Route 30/Abescon Boulevard Bridge across Beach Thorofare, NJICW mile 67.2 and the US 40-322 (Albany Avenue) Bridge across Inside Thorofare, NJICW mile 70.0, both at Atlantic City, NJ. The deviation allows the bridges to limit the number of openings to accommodate heavy volumes of vehicular traffic due to the annual Air Show at Bader Field.

DATES: This deviation is effective from 10 a.m. through 8 p.m on August 17, 2011.

ADDRESSES: Documents mentioned in this preamble as being available in the docket are part of docket USCG-2011-0669 and are available online by going to http://www.regulations.gov, inserting USCG-2011-0669 in the “Keyword” box and then clicking “Search”. They are also available for inspection or copying at the Docket Management Facility (M-30), U.S. Department of Transportation, West Building Ground Floor, Room W12-140, 1200 New Jersey Avenue, SE., Washington, DC 20590, between 9 a.m. and 5 p.m., Monday through Friday, except Federal holidays.

FOR FURTHER INFORMATION CONTACT: If you have questions on this rule, call or e-mail Ms. Lindsey Middleton, Coast Guard; telephone 757-398-6629, e-mail Lindsey.R.Middleton@uscg.mil. If you have questions on viewing the docket, call Renee V. Wright, Program Manager, Docket Operations, telephone 202-366-9826.

SUPPLEMENTARY INFORMATION: The New Jersey Department of Transportation requested a temporary deviation from the current operating regulations of the Route 30/Abescon Boulevard Bridge across Beach Thorofare, NJICW mile 67.2 and the US 40-322 (Albany Avenue) Bridge across Inside Thorofare, NJICW mile 70.0, both at Atlantic City, NJ. The bridge opening changes and closures have been requested to ensure the safety of the heavy volumes of vehicular traffic that would be transiting over the bridges for the annual Air Show at Bader Field located within the city limits. Under this tempoarary deviation, both bridges will open every two hours on the hour starting at 10 a.m. and lasting until 4 p.m. followed by bridge closures from 4 p.m. until 8 p.m. on Wednesday, August 17, 2011.

The current operating regulation for the Route 30/Abescon Boulevard Bridge is outlined at 33 CFR 117.733(e) which requires that the bridge shall open on signal but only if at least four hours notice is given; except that from April 1 through October 31, from 7 a.m. to 11 p.m., the draw need only open on the hour. The vertical clearance for this bascule bridge is 20 feet above mean high water in the closed position and unlimited in the open position.

The current operating regulation for the US 40-322 (Albany Avenue Bridge) is outlined at 33 CFR 117.733(f)which requires that on the weekdays during this time of year, the bridge shall open on signal; except that from 11 p.m. to 7 a.m., the draw need only open if at least four hours of notice is given, from 9 a.m. to 4 p.m. and from 6 p.m. to 9 p.m., the draw need only open on the hour and half hour, and from 4 p.m. to 6 p.m., the draw need not open. The vertical clearance for this bascule bridge is 10 feet above mean high water in the closed position and unlimited in the open position.

The majority of the vessels that transit the bridges this time of year are recreational boats. Vessels able to pass through the bridges in the closed positions may do so at any time. Both bridges will be able to open for emergencies. The Atlantic Ocean is an alternate route for vessels unable to pass through the bridges in the closed positions. The Coast Guard will inform the users of the waterway through our Local and Broadcast Notices to Mariners of the closure period so that vessels can plan their transits to minimize any impact caused by the temporary deviation.

In accordance with 33 CFR 117.35(e), the drawbridge must return to its regular operating schedule immediately at the end of the designated time period. This deviation from the operating regulations is authorized under 33 CFR 117.35.

Dated: August 2, 2011.
Waverly W. Gregory, Jr.,
Bridge Program Manager, By direction of the Commander, Fifth Coast Guard District.

[FR Doc. 2011-20378 Filed 8-10-11; 8:45 am]

BILLING CODE 9110-04-P